DEPARTMENT OF ENERGY

Federal Energy Regulatory Commission

[Docket Nos. RP00-477-000, RP01-18-000 and RP01-81-000]

Tennessee Gas Pipeline Company; Notice of Change of Location of Technical Conference

January 16, 2001.

Take notice that the technical conference scheduled for Tuesday, January 23, 2001, at 10:00 am, in the above-captioned proceedings will be held at the Holiday Inn On the Hill, 415 New Jersey Avenue, NW., Washington, DC 20001.

All interested persons and Staff are permitted to attend.

David P. Boergers,
Secretary.

[FR Doc. 01-1753 Filed 1-19-01; 8:45 am]

BILLING CODE 6717-01-M